DEPARTMENT OF TRANSPORTATION

Federal Aviation Administration

14 CFR Part 39

[Docket No. FAA-2007-0074; Directorate Identifier 2007-NM-151-AD]

RIN 2120-AA64

Airworthiness Directives; McDonnell Douglas Model MD-90-30 Airplanes

AGENCY: Federal Aviation Administration (FAA), DOT.

ACTION: Supplemental notice of proposed rulemaking (NPRM); reopening of comment period.

SUMMARY: We are revising an earlier proposed airworthiness directive (AD) for certain McDonnell Douglas Model MD-90-30 airplanes. The original NPRM would have required replacement of the wire harness of the auxiliary hydraulic pump with a new wire harness, and routing the new wire harness outside of the tire burst area. The original NPRM resulted from fuel system reviews conducted by the manufacturer, as well as reports of shorted wires in the right wheel well and evidence of arcing on the power cables of the auxiliary hydraulic pump. This action revises the original NPRM by proposing to require modifying the auxiliary hydraulic power system (including doing all applicable related investigative and corrective actions). We are proposing this supplemental NPRM to prevent shorted wires or electrical arcing at the auxiliary hydraulic pump, which could result in a fire in the wheel well. We are also proposing this supplemental NPRM to reduce the potential of an ignition source adjacent to the fuel tanks, which, in combination with flammable fuel vapors, could result in a fuel tank explosion and consequent loss of the airplane.

DATES: We must receive comments on this supplemental NPRM by January 13, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Long Beach Division, 3855 Lakewood Boulevard, Long Beach, California 90846, Attention: Data and Service Management, Dept. C1-L5A (D800-0024); telephone 206-544-9990; fax 206-766-5682; e-mail DDCS@boeing.com; Internet https://www.myboeingfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Comments Invited

We invite you to send any written relevant data, views, or arguments about this proposed AD. Send your comments to an address listed under the ADDRESSES section. Include “Docket No. FAA-2007-0074; Directorate Identifier 2007-NM-151-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued a notice of proposed rulemaking (NPRM) (the “original NPRM”) to amend 14 CFR part 39 to include an airworthiness directive (AD) that would apply to certain McDonnell Douglas Model MD-90-30 airplanes. That original NPRM was published in the Federal Register on October 23, 2007 (72 FR 59969). That original NPRM proposed to require replacement of the wire harness of the auxiliary hydraulic pump with a new wire harness, and routing the new wire harness outside of the tire burst area.

Actions Since Original NPRM Was Issued

Since we issued the original NPRM, we have reviewed Boeing Alert Service Bulletin MD90-29A021, Revision 1, dated August 29, 2008. We referred to Boeing Alert Service Bulletin MD90-29A021, dated May 15, 2007, as the appropriate source of service information for doing the replacement and routing of auxiliary hydraulic pump wire harnesses specified in the original NPRM. Revision 1 of the alert service bulletin describes different procedures for modifying the auxiliary hydraulic power system (including doing all applicable related investigative and corrective actions). Revision 1 of the alert service bulletin describes procedures for doing the following actions, depending on the group and configuration identified in the alert service bulletin:

• Installing auxiliary hydraulic pump wire harness support brackets.

• Replacing and routing auxiliary hydraulic pump wire harnesses.

• Installing clamps.

• Installing a wire harness assembly support bracket in the right wheel well if necessary.

• Doing related investigative and corrective actions. Related investigative and corrective actions include doing a general visual inspection of the wire harness protective sleeving dimensions, and changing wire harness sleeving if necessary.

We have revised paragraphs (c) and (f) of this supplemental NPRM to refer to Boeing Alert Service Bulletin MD90-29A021, Revision 1, dated August 29, 2008.

Comments

We gave the public the opportunity to participate in developing this AD. We considered the comment received.

Request To Revise Compliance Time

Japan Airlines requests that we revise the compliance time specified in the original NPRM of “within 18 months” to a compliance time that is “18 months or more.” Japan Airlines states that parts would not be available until June 8, 2008, and that a longer compliance would support its maintenance schedule.

We do not agree to revise the compliance time. Boeing confirmed that necessary parts will be available within the proposed compliance time. In developing an appropriate compliance time for this action, we considered the urgency associated with the subject unsafe condition, the availability of required parts, and the practical aspect of accomplishing the required actions within a period of time that corresponds to the normal scheduled maintenance for most affected operators. Operators may request an alternative method of compliance in accordance with the procedures specified in paragraph (g) of the supplemental NPRM. We have not changed the supplemental NPRM in this regard.

Revision to Costs of Compliance

We have revised the “Costs of Compliance” paragraph of this supplemental NPRM to reflect the revised work hours and parts cost specified in Boeing Alert Service Bulletin MD90-29A021, Revision 1, dated August 29, 2008.

FAA's Determination and Proposed Requirements of the Supplemental NPRM

We are proposing this supplemental NPRM because we evaluated all pertinent information and determined an unsafe condition exists and is likely to exist or develop on other products of the same type design. Certain changes described above expand the scope of the original NPRM. As a result, we have determined that it is necessary to reopen the comment period to provide additional opportunity for the public to comment on this supplemental NPRM.

Costs of Compliance

There are about 110 airplanes of the affected design in the worldwide fleet. This proposed AD would affect about 16 airplanes of U.S. registry. The proposed actions would take between 3 and 7 work hours per airplane, depending on the configuration, at an average labor rate of $80 per work hour. Required parts would cost up to $5,343 per airplane. Based on these figures, the estimated cost of the proposed AD for U.S. operators is up to $94,448, or $5,903 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

McDonnell Douglas: Docket No. FAA-2007-0074; Directorate Identifier 2007-NM-151-AD.

Comments Due Date

(a) We must receive comments by January 13, 2009.

Affected ADs

(b) None.

Applicability

(c) This AD applies to McDonnell Douglas Model MD-90-30 airplanes, certificated in any category; as identified in Boeing Alert Service Bulletin MD90-29A021, Revision 1, dated August 29, 2008.

Unsafe Condition

(d) This AD results from fuel system reviews conducted by the manufacturer, as well as reports of shorted wires in the right wheel well and evidence of arcing on the power cables of the auxiliary hydraulic pump. We are issuing this AD to prevent shorted wires or electrical arcing at the auxiliary hydraulic pump, which could result in a fire in the wheel well. We are also issuing this AD to reduce the potential of an ignition source adjacent to the fuel tanks, which, in combination with flammable fuel vapors, could result in a fuel tank explosion and consequent loss of the airplane.

Compliance

(e) You are responsible for having the actions required by this AD performed within the compliance times specified, unless the actions have already been done.

Modification

(f) Within 18 months after the effective date of this AD, modify the auxiliary hydraulic power system and do all applicable related investigative and corrective actions by accomplishing all applicable actions specified in the Accomplishment Instructions of Boeing Alert Service Bulletin MD90-29A021, Revision 1, dated August 29, 2008. Do all applicable related investigative and corrective actions before further flight.

Alternative Methods of Compliance (AMOCs)

(g)(1) The Manager, Los Angeles Aircraft Certification Office, FAA, ATTN: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210; has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on December 12, 2008.
Michael J. Kaszycki,
Acting Manager, Transport Airplane Directorate, Aircraft Certification Service.

[FR Doc. E8-30258 Filed 12-18-08; 8:45 am]

BILLING CODE 4910-13-P